OFFICE OF PERSONNEL MANAGEMENT

Submission for Review: Designation of Beneficiary: Federal Employees' Group Life Insurance, SF 2823

AGENCY: U.S. Office of Personnel Management.

ACTION: 60-Day Notice and request for comments.

SUMMARY: The Retirement Services, Office of Personnel Management (OPM) offers the general public and other Federal agencies the opportunity to comment on a revised information collection request (ICR) 3206-0136, Designation of Beneficiary: Federal Employees' Group Life Insurance, SF 2823. As required by the Paperwork Reduction Act of 1995, (Pub. L. 104-13, 44 U.S.C. chapter 35) as amended by the Clinger-Cohen Act (Pub. L. 104-106), OPM is soliciting comments for this collection. The Office of Management and Budget is particularly interested in comments that:

1. Evaluate whether the proposed collection of information is necessary for the proper performance of functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until October 1, 2013. This process is conducted in accordance with 5 CFR 1320.1.

ADDRESSES: Interested persons are invited to submit written comments on the proposed information collection to the U.S. Office of Personnel Management, Healthcare and Insurance, 1900 E Street NW., Room 4332, Washington, DC 20415, Attention: Christopher Meuchner or sent by email to Christopher.Meuchner@opm.gov.

FOR FURTHER INFORMATION CONTACT: A copy of this ICR, with applicable supporting documentation, may be obtained by contacting the U.S. Office of Personnel Management, Retirement Services Publications Team, 1900 E Street NW., Room 4445, Washington, DC 20415, Attention: Cyrus S. Benson, or sent by email to Cyrus.Benson@opm.gov or faxed to (202) 606-0910.

SUPPLEMENTARY INFORMATION: Standard Form 2823 is used by any Federal employee or retiree covered by the Federal Employees' Group Life Insurance (FEGLI) Program, or an assignee who owns an insured's coverage, to instruct the Office of Federal Employees' Group Life Insurance how to distribute the proceeds of the FEGLI coverage when the statutory order of precedence does not meet his or her needs. OPM is revising the form to clarify its policy regarding the filing of court orders used for the payment of FEGLI benefits. In addition, OPM is making some minor textual changes to explain how and to whom proceeds can be designated, and emphasizing that the insured individual keep the designation updated as needs change.

Analysis

Agency: Retirement Operations, Retirement Services, Office of Personnel Management.

Title: Designation of Beneficiary: Federal Employees' Group Life Insurance.

OMB Number: 3206-0136.

Frequency: On occasion.

Affected Public: Individuals or Households.

Number of Respondents: 48,000.

Estimated Time per Respondent: 15 minutes.

Total Burden Hours: 12,000.

U.S. Office of Personnel Management.
Elaine Kaplan,
Acting Director.

[FR Doc. 2013-18604 Filed 8-1-13; 8:45 am]

BILLING CODE 6325-38-P